DEPARTMENT OF HEALTH AND HUMAN SERVICES

Centers for Disease Control and Prevention

Iowa Ordnance Plant

AGENCY: Centers for Disease Control and Prevention (CDC), Department of Health and Human Services (HHS).

ACTION: Notice.

SUMMARY: The Department of Health and Human Services gives notice of a decision to evaluate a petition to designate a class of employees at the Iowa Ordnance Plant, also known as the Iowa Army Ammunition Plant, in Burlington, Iowa to be included in the Special Exposure Cohort under the Energy Employees Occupational Illness Compensation Program Act of 2000. The initial proposed definition for the class being evaluated, subject to revision as warranted by the evaluation, is as follows:

Facility: Iowa Ordnance Plant, Burlington, Iowa.

Locations: Line 1 (which includes Yard C, Yard G, Yard L, Firing Site Area, Burning Field “B”, and Storage Sites for Pits and Weapons including Buildings 73 and 77).

Job Titles and/or Job Duties: All Technicians (Laboratory, Health Physics, Chemical, X-ray, etc.), Production Personnel (hourly and salaried), Engineers, Inspectors, Safety Personnel, Physical Security Personnel, and Maintenance Persons. Period of Employment: 1947-1974.

FOR FURTHER INFORMATION CONTACT: Larry Elliott, Director, Office of Compensation Analysis and Support, National Institute for Occupational Safety and Health, 4676 Columbia Parkway, MS C-46, Cincinnati, OH 45226, telephone 513-533-6800 (this is not a toll-free number). Information requests can also be submitted by e-mail to OCAS@CDC.GOV.

Dated: October 18, 2004.
James D. Seligman,
Associate Director for Program Services, Centers for Disease Control and Prevention.

[FR Doc. 04-23814 Filed 10-22-04; 8:45 am]

BILLING CODE 4163-19-M